DEPARTMENT OF THE INTERIOR

National Park Service

[NPS-WASO-NAGPRA-NPS0040371; PPWOCRADN0-PCU00RP14.R50000]

Notice of Intended Repatriation: California Department of Parks and Recreation, Sacramento, CA

AGENCY: National Park Service, Interior.

ACTION: Notice.

SUMMARY: In accordance with the Native American Graves Protection and Repatriation Act (NAGPRA), the California Department of Parks and Recreation intends to repatriate certain cultural items that meet the definition of sacred objects and that have a cultural affiliation with Joseph Galvan.

DATES: Repatriation of the cultural items in this notice may occur on or after July 16, 2025.

ADDRESSES: Send additional, written requests for repatriation of the cultural items in this notice to Dr. Leslie L. Hartzell, NAGPRA Coordinator, California Department of Parks and Recreation, P.O. Box 942896, Sacramento, CA 94296-0001, email leslie.hartzell@parks.ca.gov.

SUPPLEMENTARY INFORMATION: This notice is published as part of the National Park Service's administrative responsibilities under NAGPRA. The determinations in this notice are the sole responsibility of the California Department of Parks and Recreation, and additional information on the determinations in this notice, including the results of consultation, can be found in the summary or related records. The National Park Service is not responsible for the determinations in this notice.

Abstract of Information Available

A total of 33 lots of cultural items have been requested for repatriation. The 33 lots of sacred objects are one lot of pipes, one lot of sculptures, one lot of spears, two lots of photographs, three lots of instruments, four lots of knives/sheaths, five lots of personal effects, and 16 lots of regalia. Joseph Galvan was of Yaqui descent and moved to Tejon Ranch in 1916, at the age of 15 years, to live with his Aunt Angela and his uncle Paiute Chief Juan Lozada, who adopted Mr. Galvan into the Paiute community. Galvan made most of these objects, and utilized the others during his time working as a vaquero, at the San Diego Zoo, in the San Luis Rey parades, and/or for dances he performed in. Some of the objects were made as gifts for specific family members. Of the objects Galvan made, many are either influenced by or a direct recreation of Paiute and Great Basin artistry and craftsmanship. A portion of the objects in this collection were given to Roscoe Elwood Hazard, who befriended the Galvan family. In 1972, Hazard donated his extensive collection of Western and Western-themed memorabilia to the State of California, where Governor Reagan then donated the collection to the California Department of Parks and Recreation.

Determinations

The California Department of Parks and Recreation has determined that:

• The 33 sacred objects described in this notice are specific ceremonial objects needed by a traditional Native American religious leader for present-day adherents to practice traditional Native American religion, according to the Native American traditional knowledge of a lineal descendant, Indian Tribe, or Native Hawaiian organization.

• Known lineal descendants, Katarina Galvan and Richard Frank Galvan, are connected to the cultural items described in this notice.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 16, 2025. If competing requests for repatriation are received, the California Department of Parks and Recreation must determine the most appropriate requestor prior to repatriation. Requests for joint repatriation of the cultural items are considered a single request and not competing requests. The California Department of Parks and Recreation is responsible for sending a copy of this notice to the Indian Tribes and Native Hawaiian organizations identified in this notice and to any other consulting parties.

Authority: Native American Graves Protection and Repatriation Act, 25 U.S.C. 3004 and the implementing regulations, 43 CFR 10.9.

Dated: June 6, 2025.
Melanie O'Brien,
Manager, National NAGPRA Program.

[FR Doc. 2025-11009 Filed 6-13-25; 8:45 am]

BILLING CODE 4312-52-P